DEPARTMENT OF STATE

[Public Notice No: 3232]

Advisory Committee on Historical Diplomatic Documentation; Notice of Meeting

The Advisory Committee on Historical Diplomatic Documentation will meet in the Department of State, 2201 “C” Street NW, Washington, D.C., April 10-11, 2000 in Conference Room 1406. Prior notification and a valid photo are mandatory for entrance into the building. One week before the meeting the public must notify Gloria Walker, Office of Historian (202-663-1124) providing their date of birth, Social Security number, and telephone number.

The Committee will meet in open session from 9 a.m. through Noon on Monday, April 10, 2000, to discuss the implementation of Executive Order 12958 with respect to Department of State records, the declassification and transfer of Department of State electronic records to the National Archives and Records Administration, and the modernization of the Foreign Relations series. The remainder of the Committee's sessions from 1:45 p.m. on Monday, April 10, 2000 until Noon on Tuesday, April 11, 2000 will be closed in accordance with Section 10(d) of the Federal Advisory Committee Act (Pub. L. 92-463). The agenda calls for discussions involving consideration of matters not subject to public disclosure under 5 U.S.C. 552b(c)(1), and that the public interest requires that such activities be withheld from disclosure.

Questions concerning the meeting should be directed to William Slany, Executive Secretary, Advisory Committee on Historical Diplomatic Documentation, Department of State, Office of the Historian, Washington, DC, 20520, telephone (202) 663-1123, (e-mail pahistoff@panet.us-state.gov).

February 29, 2000.
William Slany,
Executive Secretary.

[FR Doc. 00-6098 Filed 3-10-00; 8:45 am]

BILLING CODE 4710-08-U